DEPARTMENT OF AGRICULTURE

Rural Business-Cooperative Service

Inviting Applications for the Delta Health Care Services Grant Program

AGENCY: Rural Business-Cooperative Service, USDA.

ACTION: Notice.

SUMMARY: This Notice announces that the Rural Business-Cooperative Service (Agency) is accepting fiscal year (FY) 2015 applications for the Delta Health Care Services Grant (DHCS) Program as authorized by the Consolidated and Further Continuing Appropriations Act of 2015 (Pub.L. 113-235). Approximately $5 million is available to be competitively awarded. The purpose of this program is to provide financial assistance to address the continued unmet health needs in the Delta Region through cooperation among health care professionals, institutions of higher education, research institutions and economic development entities in the Delta Region. The Agency is encouraging applications that grants to projects based in or serving census tracts with poverty rates greater than or equal to 20 percent. This emphasis will support Rural Development's (RD) mission of improving the quality of life for Rural Americans and its commitment to directing resources to those who most need them.

DATES: You must submit completed applications for grants according to the following deadlines:

• Paper copies must be postmarked and mailed, shipped, or sent overnight no later than December 7, 2015.

• Electronic copies must be received by December 2, 2015. Late applications are not eligible for funding under this Notice and will not be evaluated.

ADDRESSES: You should contact your USDA Rural Development State Office (State Office) if you have questions about eligibility or submission requirements. You are encouraged to contact your State Office well in advance of the application deadline to discuss your project and to ask any questions regarding the application process. A list of State Office contacts can be found at http://www.rd.usda.gov/contact-us/state-offices.

A supplementary application guide has also been created for your assistance. You may obtain application guides and materials for this Notice in the following ways:

• Through the Internet at the RBS Cooperative Programs Web site: http://www.rd.usda.gov/programs-services/delta-health-care-services-grants

• By requesting application guides and materials from your local State Office. A list of State Office contacts can be found at http://www.rd.usda.gov/contact-us/state-offices.

Alabama

USDA Rural Development State Office, Sterling Centre, Suite 601, 4121 Carmichael Road, Suite 601, Montgomery, AL 36106-3683, (334) 279-3400/TDD (334) 279-3495.

Arkansas

USDA Rural Development State Office, 700 West Capitol Avenue, Room 3416, Little Rock, AR 72201-3225, (501) 301-3200/TDD (501) 301-3279.

Illinois

USDA Rural Development State Office, 2118 West Park Court, Suite A, Champaign, IL 61821, (217) 403-6200/TDD (217) 403-6240.

Kentucky

USDA Rural Development State Office, 771 Corporate Drive, Suite 200, Lexington, KY 40503, (859) 224-7435/TDD (859) 224-7422.

Louisiana

USDA Rural Development State Office, 3727 Government Street, Alexandria, LA 71302, (318) 473-7960/TDD (318) 473-7655.

Mississippi

USDA Rural Development State Office, Federal Building, Suite 831, 100 West Capitol Street, Jackson, MS 39269, (601) 965-5457/TDD (601) 965-5850.

Missouri

USDA Rural Development State Office, 601 Business Loop 70 West, Parkade Center, Suite 235, Columbia, MO 65203, (573) 876-9321/TDD (573) 876-9480.

Tennessee

USDA Rural Development State Office, 3322 West End Avenue, Suite 300, Nashville, TN 37203-1084, (615) 783-1321.

You must submit either:

• A complete paper application to the State Office located in the State where the project will primarily take place, http://www.rd.usda.gov/contact-us/state-offices (see list above), or

• A complete electronic grant application at http://www.grants.gov/ (Grants.gov). Please review the Grants.gov Web site at http://grants.gov/applicants/organization_registration.jsp, for instructions on the process of registering your organization as soon as possible to ensure you are able to meet the application deadline.

FOR FURTHER INFORMATION CONTACT: Grants Division, Cooperative Programs, Rural Business-Cooperative Programs, 1400 Independence Ave. SW., STOP 3253, Washington, DC 20250-3253; or call (202) 690-1376.

SUPPLEMENTARY INFORMATION:

Overview

Federal Agency: USDA Rural Business-Cooperative Service (RBS).

Funding Opportunity Title: Delta Health Care Services Grant Program.

Announcement Type: Initial funding announcement.

Catalog of Federal Domestic Assistance (CFDA) Number: 10.874.

Dates: You must submit your complete application by December 7, 2015 or it will not be considered for funding. Electronic copies must be received by www.grants.gov no later than midnight Eastern time December 2, 2015 or it will not be considered for funding.

Executive Order (EO) 13175 Consultation and Coordination With Indian Tribal Governments

This Executive Order imposes requirements on RD in the development of regulatory policies that have tribal implications or preempt tribal laws. RD has determined that this Notice does not have a substantial direct effect on one or more Indian tribe(s) or on either the relationship or the distribution of powers and responsibilities between the Federal Government and the Indian tribes. Thus, this Notice is not subject to the requirements of Executive Order 13175. Tribal Consultation inquiries and comments should be directed to RD's Native American Coordinator at aian@wdc.usda.gov or (720) 544-2911.

Paperwork Reduction Act

The Paperwork Reduction Act requires Federal agencies to seek and obtain Office of Management and Budget (OMB) approval before undertaking a collection of information directed to ten or more persons. In accordance with the Paperwork Reduction Act of 1995 (44 U.S.C. Chapter 35), the Agency conducted an analysis to determine the number of applications the Agency estimates that it will receive under the Delta Health Care Services Grant Program. It was determined that the estimated number of applications was fewer than nine and in accordance with 5 CFR 1320, thus no OMB approval is necessary at this time.

A. Program Description

This Notice announces the availability of funds for the DHCS grant program, which is authorized under Section 379G of the Consolidated Farm and Rural Development Act (7 U.S.C. 2008u). The primary objective of the program is to provide financial assistance to address the continued unmet health needs in the Delta Region through cooperation among health care professionals, institutions of higher education, research institutions, and other individuals and entities in the Delta Region. Grants are awarded on a competitive basis. The maximum award amount per grant is $500,000.

Definitions

The terms and conditions provided in this Notice are applicable to this Notice only. In addition, the term “you” referenced throughout this Notice should be understood to mean the applicant and the terms “we,” “us,” and “our” should be understood to mean Rural Business-Cooperative Services, Rural Development, USDA.

Academic Health and Research Institute means one of the following:

• A combination of a medical school, one or more other health profession schools or educational training programs (such as allied health, dentistry, graduate studies, nursing, pharmacy, public health, veterinary medicine), and one or more owned or affiliated teaching hospitals or health systems; or

• A health care nonprofit organization or health system, including nonprofit medical and surgical hospitals, that conduct health related research exclusively for scientific or educational purposes.

Conflict of Interest means a situation in which a person or entity has competing personal, professional, or financial interests that make it difficult for the person or business to act impartially. Regarding use of both grant and Federal procurement standards prohibit transactions that involve a real or apparent conflict of interest for owners, employees, officers, agents, or their immediate family members having a financial or other interest in the outcome of the project; or that restrict open and free competition for unrestrained trade. Specifically, project funds may not be used for services or goods going to, or coming from, a person or entity with a real or apparent conflict of interest, including, but not limited to, owner(s) and their immediate family members. An example of conflict of interest occurs when the consortium member's employees, board of directors, or the immediate family of either, have the appearance of a professional or personal financial interest in the recipients receiving the benefits or services of the grant.

Consortium means a group of three or more entities that are regional Institutions of Higher Education, Academic Health and Research Institutes, and/or Economic Development Entities located in the Delta Region that have at least one year of prior experience in addressing the health care issues in the region. At least one of the consortium members must be legally organized as an incorporated organization or other legal entity and have legal authority to contract with the Federal government.

Delta Region means the 252 counties and parishes within the states of Alabama, Arkansas, Illinois, Kentucky, Louisiana, Mississippi, Missouri, and Tennessee that are served by the Delta Regional Authority. (The Delta Region may be adjusted by future Federal statute.) To view the areas identified within the Delta Region visit http://dra.gov/about-dra/dra-states.

Economic Development Entity means any public or non-profit organization whose primary mission is to stimulate local and regional economies within the Delta Region by increasing employment opportunities and duration of employment, expanding or retaining existing employers, increasing labor rates or wage levels, reducing outmigration, and/or creating gains in other economic development-related variables such as land values. These activities shall primarily benefit low- and moderate-income individuals in the Delta Region.

Health System means the complete network of agencies, facilities, and all providers of health care to meet the health needs of a specific geographical area or target populations.

Institution of Higher Education means either a postsecondary (post-high school) educational institution that awards a bachelor's degree or provides not less than a 2-year program that is acceptable for full credit toward such a degree, or a postsecondary vocational institution that provides a program of training to prepare students for gainful employment in a recognized occupation.

Nonprofit Organization means any organization or institution, including an accredited institution of higher education, no part of the net earnings of which may inure, to the benefit of any private shareholder or individual.

Project Funds means grant funds requested plus any other contributions to the proposed project.

Rural and rural area means any area of a State:

• Not in a city or town that has a population of more than 50,000 inhabitants, according to the latest decennial census of the United States; and

• The contiguous and adjacent urbanized area,

• Urbanized areas that are rural in character as defined by 7 U.S.C. 1991 (a) (13), as amended by Section 6018 of the Food, Conservation, and Energy Act of 2008, Public Law 110-246 (June 18, 2008).

• For the purposes of this definition, cities and towns are incorporated population centers with definite boundaries, local self-government, and legal powers set forth in a charter granted by the State.

State means each of the 50 states, the Commonwealth of Puerto Rico, the Virgin Islands of the United States, Guam, American Samoa, the Commonwealth of the Northern Mariana Islands, and, as may be determined by the Secretary to be feasible, appropriate and lawful, the Federated States of Micronesia, the Republic of the Marshall Islands and the Republic of Palau.

B. Federal Award Information

Type of Award: Grant

Total Funding for DHCS: $5,312,610.00

Maximum DHCS Award: $500,000

Minimum DHCS Award: $50,000

Project Period: Up to 24 months

Anticipated Award Date: March 1, 2016

C. Eligibility Information

Applicants must meet all of the following eligibility requirements. Your application will not be considered for funding if it does not provide sufficient information to determine eligibility or is missing required elements. Applicants that fail to submit the required elements by the application deadline will be deemed ineligible and will not be evaluated further. Information submitted after the application deadline will not be accepted.

1. Eligible Applicants

Grants funded through DHCS may be made to a Consortium as defined in Paragraph A of this Notice. Consortiums are eligible to receive funding through this Notice. One member of the Consortium must be designated as the lead entity by the other members of the Consortium and have legal authority to contract with the Federal government.

The lead entity is the recipient (See 2 CFR 200.86) of the DHCS grant funds and accountable for monitoring and reporting on the project performance and financial management of the grant. In addition, the lead entity (recipient) is responsible for subrecipient monitoring and management in accordance with 2 CFR 200.330 and 200.331, respectively. The remaining consortium members are subrecipients (See 2 CFR 200.93). They may receive subawards (See 2 CFR 200.94) from the recipient and are responsible for monitoring and reporting the project performance and financial management of their subaward to the recipient.

(a) An applicant is ineligible if they do not submit “Evidence of Eligibility” and “Consortium Agreements” as described in Section D.2. of this Notice.

(b) An applicant is ineligible if they have been debarred or suspended or otherwise excluded from or ineligible for participation in Federal assistance programs under Executive Order 12549, “Debarment and Suspension.” The Agency will check the System for Award Management (SAM) to determine if the applicant has been debarred or suspended. In addition, an applicant will be considered ineligible for a grant due to an outstanding judgment obtained by the U.S. in a Federal Court (other than U.S. Tax Court), is delinquent on the payment of Federal income taxes, or is delinquent on Federal debt. The applicant must certify as part of the application that they do not have an outstanding judgement against them. The Agency will check the Credit Alert Interactive Voice Response System (CAIVRS) to verify this.

(c) Any corporation (i) that has been convicted of a felony criminal violation under any Federal law within the past 24 months or (ii) that has any unpaid Federal tax liability that has been assessed, for which all judicial and administrative remedies have been exhausted or have lapsed, and that is not being paid in a timely manner pursuant to an agreement with the authority responsible for collecting the tax liability, is not eligible for financial assistance provided with funds appropriated by the Consolidated and Further Continuing Appropriations Act, 2015, unless a Federal agency has considered suspension or debarment of the corporation and has made a determination that this further action is not necessary to protect the interests of the Government.

(d) Applications will be deemed ineligible if the application includes any funding restrictions identified under Section D.6.

(e) Applications will be deemed ineligible if the application is not complete in accordance with the requirements stated in Section C.3.g.

2. Cost Sharing or Matching

Matching funds are not required. However, if you are adding any other contributions to the proposed Project, you must provide documentation indicating who will be providing the matching funds, the amount of funds, when those funds will be provided, and how the funds will be used in the project budget. Examples of acceptable documentation include: A signed letter from the source of funds stating the amount of funds, when the funds will be provided, and what the funds can be used for or a signed resolution from your governing board authorizing the use of a specified amount of funds for specific components of the project. The matching funds you identify must be specifically dedicated to the project and cannot include your organization's general operating budget. No credit will be given for in-kind donations of time, goods, and/or services from any organization, including the applicant organization. Additionally, we will not consider program income or expected revenue as other contributions, unless a commitment letter from the organization that will be paying the fees provides a letter stating the amount of the funds that will be paid, when they will be paid, and what they can be used for, if applicable. If you choose, you may use a template to summarize the matching funds. The template is available either from your Rural Development State Office or the program Web site at: http://www.rd.usda.gov/programs-services/delta-health-care-services-grants.

3. Other Eligibility Requirements

The following additional eligibility requirements apply to this program:

(a) Use of Funds. An application must propose to use Project funds, including grant and other contributions committed under the evaluation criteria for eligible purposes. Eligible Project purposes include the development of:

• Health care services;

• health education programs;

• health care job training programs; and

• the development and expansion of public health-related facilities in the Delta Region.

(b) Project Area. The proposed Project must take place in a Rural Area within the Delta Region as defined in this Notice. However, the applicant need not propose to serve the entire Delta Region.

(c) Project Input. Your proposed Project must be developed based on input from local governments, public health care providers, and other entities in the Delta Region.

(d) Grant Period. All grant funds are limited to a 24-month performance period. Your proposed grant period should begin no earlier than the anticipated award announcement date, March 1, 2016, and should end no later than 24 months following that date. If you receive an award, your grant period will be revised to begin on the actual date of award—the date the grant agreement is executed by the Agency—and your grant period end date will be adjusted accordingly. Your Project activities must begin within 90 days of the date of award. If you request funds for a time period beginning before March 1, 2016, and/or ending later than 24 months from that date, your application will be ineligible. The length of your grant period should be based on your Project's complexity, as indicated in your application work plan.

(e) Multiple Grant Requests. The Consortium, including its members, is limited to submitting one application for funding under this Notice. We will not accept applications from Consortiums that include members who are also members of other Consortiums that have submitted applications for funding under this Notice. If we discover that a Consortium member is a member of multiple Consortiums with applications submitted for funding under this Notice, all applications will be considered ineligible for funding.

(f) Performance on Existing DHCS Awards. If the lead entity, or any of its Consortium members, has an existing DHCS award, they must be performing satisfactorily to be considered eligible for a funding under this Notice. Satisfactory performance includes, but is not limited to, being up-to-date on all financial and performance reports and being current on all tasks as approved in the work plan. The Agency will use its discretion to make this determination.

(g) Completeness. Your application must provide all of the information requested in Section D.2. of this Notice. Applications lacking sufficient information to determine eligibility and scoring will be deemed ineligible and will not be considered for scoring.

(h) Indirect Costs. Your negotiated indirect cost rate approval does not need to be included in your application, but you will be required to provide it if a grant is awarded. Approval for indirect costs that are requested in an application without an approved indirect cost rate agreement is at the discretion of the Agency.

D. Application and Submission Information

Please see instructions below on how to access and submit a complete application for this funding opportunity.

1. Address To Request Application Package

The application guide and copies of necessary forms for the DHCS Grant Program are available from these sources:

• The Internet at http://www.rd.usda.gov/programs-services/delta-health-care-services-grants, http://www.grants.gov, or

• For paper copies of these materials, please call (202) 690-1376.

2. Content and Form of Application Submission

You may submit your application in paper form or electronically through Grants.gov. Your application must contain all required information.

To submit an application electronically, you must follow the instructions for this funding announcement at http://www.grants.gov. Please note that we cannot accept emailed or faxed applications.

You can locate the Grants.gov downloadable application package for this program by using a keyword, the program name, or the Catalog of Federal Domestic Assistance Number for this program.

When you enter the Grants.gov Web site, you will find information about submitting an application electronically through the site, as well as the hours of operation.

To use Grants.gov, you must already have a DUNS number and you must also be registered and maintain registration in SAM. We strongly recommend that you do not wait until the application deadline date to begin the application process through Grants.gov.

You must submit all of your application documents electronically through Grants.gov. Applications must include electronic signatures. Original signatures may be required if funds are awarded.

After electronically submitting an application through Grants.gov, you will receive an automatic acknowledgement from Grants.gov that contains a Grants.gov tracking number.

If you want to submit a paper application, send it to the State Office located in the State where you are headquartered. You can find State Office contact information at: http://www.rd.usda.gov/contact-us/state-offices.

You are strongly encouraged, but not required, to utilize the DHCS Application Guide found at http://www.rd.usda.gov/programs-services/delta-health-care-services-grants. The guide provides specific guidance on each of the items listed and also provides all necessary forms and sample worksheets.

The organization submitting the application will be considered the lead entity. The Contact/Program Manager must be associated with the lead entity submitting the application.

A completed application must include the following:

(a) Form SF-424, “Application for Federal Assistance.”—The application for federal assistance must be completed by the lead entity as described in Section C.1. of this Notice. Your application must include your DUNS number and SAM (CAGE) code and expiration date. Because there are no specific fields for a CAGE code and expiration date, you may identify them anywhere you want to on the form. If you do not include the CAGE code and expiration date and DUNS number in your application, it will not be considered for funding. The form must be signed by an authorized representative.

(b) Form SF-424A, “Budget Information—Non-Construction Programs.” This form must be completed and submitted as part of the application package for non-construction projects.

(c) Form SF-424B, “Assurances—Non-Construction Programs.” This form must be completed, signed, and submitted as part of the application package for non-construction projects.

(d) Form SF-424C, “Budget Information—Construction Programs.” This form must be completed, signed, and submitted as part of the application package for construction projects.

(e) Form SF-424D, “Assurances—Construction Programs.” This form must be completed, signed, and submitted as part of the application package for construction projects.

(f) A project abstract. You must provide a brief summary of the proposed Project, not to exceed 250 words, suitable for dissemination to the public and to Congress.

(g) Executive summary. You must provide a more detailed description of your project containing the following information; (1) Legal name of lead applicant, (2) consortium members, (3) applicant type (including consortium members) (4) application type (development of health care services, health education programs, health care job care training programs, or the development and/or expansion of health related facilities, (5) a summary of your project, (6) project goals and (7) how you intend to use the grant funds. Limit two pages.

(h) Evidence of eligibility. You must provide evidence of the Consortium's eligibility to apply under this Notice. This section must include a detailed summary demonstrating how each Consortium member meets the definition of an eligible entity as defined under Definitions of this Notice.

(i) Consortium agreements. The application must include a formal written agreement with each Consortium member that addresses the negotiated arrangements for administering the Project to meet Project goals, the Consortium member's responsibilities to comply with administrative, financial, and reporting requirements of the grant, including those necessary to ensure compliance with all applicable Federal regulations and policies, and facilitate a smooth functioning collaborative venture. Under the agreement, each Consortium member must perform a substantive role in the Project and not merely serve as a conduit of funds to another party or parties. This agreement must be signed by an authorized representative of the lead entity and an authorized representative of each partnering consortium entity.

(j) Scoring documentation. You must address and provide documentation for each scoring criterion, specifically (1) the rurality of the project area and communities served, (2) the community needs and benefits derived from the project, (3) and project management and organization capability. See Section E.1.

(k) Work Plan and Budget. You must provide a work plan and budget that includes the following: (1) The specific activities; such as programs, services, trainings, and/or construction-related activities for a facility to be performed under the Project, (2) the estimated line item costs associated with each activity, including grant funds and other necessary sources of funds; (3) the key personnel who will carry out each activity (including each Consortium member's role), and (4) the specific time frames for completion of each activity.

An eligible start and end date for the project and for individual project tasks must be clearly shown and may not exceed Agency specified timeframes for the grant period. You must show the source and use of both grant and other contributions for all tasks. Other contributions must be spent at a rate equal to, or in advance of, grant funds.

(l) Financial information and sustainability. You must provide current financial statements and a narrative description demonstrating sustainability of the project, all of which show sufficient resources and expertise to undertake and complete the project and how the project will be sustained following completion. Applicants must provide 3 years of pro-forma financial statements for the project.

(m) Evidence of legal authority and existence. The lead entity must provide evidence of its legal existence and authority to enter into a grant agreement with the Agency and perform the activities proposed under the grant application.

(n) Evidence of input solicited from local stakeholders. The application must include documentation detailing support solicited from local government, public health care providers and other entities in the Delta Region. Evidence of support can include; but is not limited to surveys conducted amongst rural residents and stakeholders, notes from focus groups, or letters of support from local entities.

(o) Service area maps. You must provide maps with sufficient detail to show the area that will benefit from the proposed facilities and services and the location of the facilities improved or purchased with grant funds if applicable.

(p) Form AD-3030. Form AD-3030, “Representations Regarding Felony Conviction and Tax Delinquent Status for Corporate Applicants,” if you are a corporation. A corporation is any entity that has filed articles of incorporation in one of the 50 States, the District of Columbia, the Federated States of Micronesia, the Republic of Palau, and the Republic of the Marshall Islands, or the various territories of the United States including American Samoa, Guam, Midway Islands, the Commonwealth of the Northern Mariana Islands, Puerto Rico, or the U.S. Virgin Islands. Corporations include both for profit and non-profit entities.

(q) Certification of no current outstanding Federal judgment. You must certify that there are no current outstanding Federal judgments against your property and that you will not use grant funds to pay for any judgment obtained by the United States. To satisfy the Certification requirement, you should include this statement in your application: “[INSERT NAME OF APPLICANT] certifies that the United States has not obtained an unsatisfied judgment against its property and will not use grant funds to pay any judgments obtained by the United States.” A separate signature is not required.

(r) Form RD-1940-20, “Request for Environmental Information.” You must submit a completed Form RD 1940-20, “Request for Environmental Information,” and a description of anticipated environmental issues or concerns for all construction related applications. The form can be found at: http://forms.sc.egov.usda.gov/efcommon/eFileServices/eForms/RD1940-20.PDF. Additional environmental documentation may be requested in accordance with 7 CFR part 1940 Exhibit H. The submission of the Form RD 1940-20 alone does not constitute compliance with 7 CFR part 1940.

3. DUNS Number and SAM Registration

In order to be eligible (unless you are exempted under 2 CFR 25.110(b), (c) or (d), you are required to:

(a) Provide a valid DUNS number in your application, which can be obtained at no cost via a toll-free request line at (866) 705-5711;

(b) Register in SAM before submitting your application. You may register in SAM at no cost at https://www.sam.gov/portal/public/SAM/; and

(c) Continue to maintain an active SAM registration with current information at all times during which you have an active Federal award or an application or plan under consideration by a Federal awarding agency.

The Agency may not make a Federal award to you until you have complied with all applicable DUNS and SAM requirements. If you have not fully complied with requirements by the time the Agency is ready to make a Federal award, the Agency may determine that the applicant is not qualified to receive a Federal award and the Agency may use this determination as a basis for making an award to another applicant.

4. Submission Date and Time

Application Deadline Date: December 7, 2015.

Explanation of Deadlines: Complete paper applications must be postmarked and mailed, shipped, or sent overnight by December 7, 2015. The Agency will determine whether your application is late based on the date shown on the postmark or shipping invoice. You may also hand carry your application to one of our field offices, but it must be received by close of business on the deadline date. If the due date falls on a Saturday, Sunday, or Federal holiday, the reporting package is due the next business day. Late applications are not eligible for funding.

Electronic applications must be RECEIVED by http://www.grants.gov by midnight Eastern time December 2, 2015, to be eligible for funding. Please review the Grants.gov Web site at http://grants.gov/applicants/organization_registration.jsp for instructions on the process of registering your organization as soon as possible to ensure you are able to meet the electronic application deadline. Grants.gov will not accept applications submitted after the deadline.

5. Intergovernmental Review

Executive Order (EO) 12372, Intergovernmental Review of Federal Programs, applies to this program. This EO requires that Federal agencies provide opportunities for consultation on proposed assistance with State and local governments. Many States have established a Single Point of Contact (SPOC) to facilitate this consultation. A list of States that maintain a SPOC may be obtained at http://www.whitehouse.gov/omb/grants_spoc. If your State has a SPOC, you may submit your application directly for review. Any comments obtained through the SPOC must be provided to Rural Development for consideration as part of your application. If your State has not established a SPOC or you do not want to submit your application to the SPOC, Rural Development will submit your application to the SPOC or other appropriate agency or agencies.

You are also encouraged to contact Cooperative Programs at 202-690-1376 or cpgrants@wdc.usda.gov if you have questions about this process.

6. Funding Restrictions

The use of project funds, including grant funds and other contributions, cannot be used for ineligible purposes. In addition, you shall not use project funds for the following:

(a) To duplicate current services or to replace or to substitute support previously provided. If the current service is inadequate, however, project funds may be used to expand the level of effort or a service beyond what is currently being provided;

(b) To pay for costs to prepare the application for funding under this Notice;

(c) To pay for costs of the project incurred prior to the effective date of the period of performance;

(d) To pay expenses for applicant employee training;

(e) Fund political activities;

(f) To pay for assistance to any private business enterprise which does not have at least 51 percent ownership by those who are either citizens of the United States or reside in the United States after being legally admitted for permanent residence;

(g) To pay any judgment or debt owed to the United States.

(h) Engage in any activities that are considered a Conflict of Interest, as defined by this Notice; or

(i) Fund any activities prohibited by 2 CFR 200.

In addition, your application will not be considered for funding if it does any of the following:

• Requests more than the maximum grant amount: or

• Proposes ineligible costs that equal more than 10 percent of the project funds.

If you include funds in your budget that are for ineligible purposes, we will consider the application for funding if the ineligible purposes total 10 percent or less of an applicant's project funds. However, if the application is successful, those ineligible costs must be removed from the work plan and budget and replaced with eligible costs before we will make the grant award, or the grant award will be reduced accordingly. If we cannot determine the percentage of ineligible costs, the application will not be considered for funding.

7. Other Submission Requirements

(a) You should not submit your application in more than one format. You must choose whether to submit your application in hard copy or electronically. Applications submitted in hard copy should be mailed or hand-delivered to the State Office where the project will primarily take place. You can find State Office contact information at: http://www.rd.usda.gov/contact-us/state-offices. To submit an application electronically, you must follow the instructions for this funding announcement at http://www.grants.gov. A password is not required to access the Web site.

(b) National Environmental Policy Act.

This Notice has been reviewed in accordance with 7 CFR part 1940, subpart G, “Environmental Program.” We have determined that an Environmental Impact Statement is not required because the issuance of regulations and instructions, as well as amendments to them, describing administrative and financial procedures for processing, approving, and implementing the Agency's financial programs is categorically excluded in the Agency's National Environmental Policy Act (NEPA) regulation found at 7 CFR 1940.310(e)(3) of subpart G, “Environmental Program.” We have determined that this Notice does not constitute a major Federal action significantly affecting the quality of the human environment. Non-construction projects applying under this Notice are hereby classified as Categorical Exclusions according to 7 CFR 1940.310(e), the award of financial assistance for planning purposes, management and feasibility studies, or environmental impact analyses, which do not require any additional documentation.

(c) Civil Rights Compliance Requirements.

All grants made under this Notice are subject to Title VI of the Civil Rights Act of 1964 as required by the USDA (7 CFR part 15, subpart A) and Section 504 of the Rehabilitation Act of 1973.

E. Application Review Information

We will review your application to determine if it is complete and eligible. If at any time we determine that your application is ineligible, you will be notified in writing as to the reasons it was determined ineligible and you will be informed of your review and appeal rights.

We will only score applications in which the lead entity, partnering Consortium member entities, and the project are eligible. The applications must also be complete and sufficiently responsive to program requirements.

We will review each application to determine if it is eligible for funding and complete, based on the requirements of this Notice as well as other applicable Federal regulations.

Applications that are determined to be eligible and complete will be evaluated based on the criteria described below.

1. Criteria

For each criterion, you must show how the Project has merit and why it is likely to be successful. If you do not address all parts of a criterion your application will be deemed ineligible. If you do not sufficiently communicate relevant Project information, you will receive lower scores. DHCS is a competitive program, so you will receive scores based on the quality of your responses. Simply addressing the criteria will not guarantee higher scores. The maximum number of points that can be awarded to your application is 100. For this announcement, the minimum score requirement for funding is 60 points. It is at the Agency's discretion to fund applications with a score of 59 or less if it is in the best interest of the Federal government.

The evaluation criteria are detailed in the DHCS Grant Application Guide which can be found at http://www.rd.usda.gov/programs-services/delta-health-care-services-grants. You must address each evaluation criterion outlined in this Notice. Any criterion not substantively addressed will receive zero points. There are three criteria totaling 100 points. They are listed below:

(a) Rurality of the Project and communities served (maximum of 30 points)—The rurality of the communities served by the Project is an objective criterion that measures the rurality of the Project's service area. It is determined by the population of the community. The rurality calculation provided in the application will be checked and, if necessary, corrected by us.

Level | Community Having a Population: Over | Community Having a Population: Not in excess of | Community Having a Population: Points
1 | 0 | 5,000 | 30
2 | 5,001 | 20,000 | 20
3 | 20,001 | 50,000 | 10
4 | 50,001 or located in an Urbanized Area |  | 0

(b) The Community Needs and Benefits derived from the Project (maximum of 30 points)—We will assess how the Project's purpose and goals benefit the residents in the Delta Region. This criterion will be scored based on the documentation in support of the community needs for health services and public health-related facilities and the benefits to people living in Delta Regional derived from the implementation of the proposed Project. It should lead clearly to the identification of the Project participant pool and the target population for the Project, and provide convincing links between the Project and the benefits to the community to address its health needs. RBS will consider:

(1) The extent of the applicant's documentation explaining the health care needs, issues, and challenges facing the service area. Include what problems the residents face and how the Project will benefit the residents in the region.

(2) The extent to which the applicant is able to show the relationship between the Project's design, outcome, and benefits.

(3) The extent to which the applicant explains the Project and its implementation and provides milestones which are well-defined and can be realistically completed.

(4) The extent to which the applicant clearly outlines a plan to track, report, and evaluate performance outcomes.

Applicants should attempt to quantify benefits in terms of outcomes from the Project; that is, ways in which peoples' lives, or the community, will be improved. Provide estimates of the number of people affected by the benefits arising from the project. The Agency has also established annual performance measures to evaluate the DHCS program. Use this section to provide estimates on the following performance measures as part of your narrative:

• Number of businesses assisted;

• Number of jobs created;

• Number of jobs saved;

• Number of individuals assisted/trained.

It is permissible to have a zero in a performance element. When you calculate jobs created, estimates should be based upon actual jobs to be created by your organization as a result of the DHCS funding or actual jobs to be created by businesses as a result of assistance from your organization. When you calculate jobs saved, estimates should be based only on actual jobs that would have been lost if your organization did not receive DHCS funding or actual jobs that would have been lost without assistance from your organization.

You can also suggest additional performance elements for example where job creation or jobs saved may not be a relevant indicator. These additional criteria should be specific, measurable performance elements that could be included in an award document.

(c) The Project Management and Organization Capability (maximum of 40 points)—We will evaluate the Consortium's experience, past performance, and accomplishments addressing health care issues to ensure effective Project implementation. This criterion will be scored based on the documentation of the Project's management and organizational capability. RBS will consider:

(1) The degree to which the organization has a sound management and fiscal structure including: well-defined roles for administrators, staff, and established financial management systems.

(2) The extent to which the applicant identifies and demonstrates that qualifications, capabilities, and educational background of the identified key personnel (at a minimum the Project Manager) who will manage and implement programs are relevant and will contribute to the success of the Project.

(3) The extent to which the applicant demonstrates current successful and effective experience (or recent past experience) addressing the health care issues in the Delta Region.

(4) The extent to which the applicant has experience managing grant-funded programs.

(5) The extent to which the applicant is able to correlate and support the budget to the project phases and implementation timeline.

(6) The extent to which administrative/management costs are balanced with funds designated for the provision of programs and services.

(7) The extent and depth of membership in the applicant's Consortium of regional institutions of higher education, academic health and research institutes and economic development entities located in the Delta Region.

2. Review and Selection Process

The State Offices will review applications to determine if they are eligible for assistance based on requirements in this Notice and other applicable Federal regulations. If determined eligible, your application will be scored by a panel of National and State Office employees in accordance with the point allocation specified in this Notice. A recommendation will be submitted to the Administrator to fund applications in highest ranking order, subject to availability of funds. It is at the Agency's discretion to fund applications with a score of 59 or less if it is in the best interest of the Federal government. If your application is evaluated, but not funded, it will not be carried forward into the next competition.

F. Federal Award Administration Information

1. Federal Award Notices

If you are selected for funding, you will receive a signed notice of Federal award by postal mail from the State Office where your application was submitted, containing instructions on requirements necessary to proceed with execution and performance of the award. You must comply with all applicable statutes, regulations, and notice requirements before the grant award will be approved. We recognize that each funded Project is unique and therefore the terms and conditions of each award may vary. We will notify applicants whose applications are selected for funding by sending a letter of conditions, which must be met before the award can be finalized.

Once the conditions of the award are met, we will issue a grant agreement, which must be signed by the lead entity and us before the period of performance can begin. The lead entity may administer the award using the traditional subaward approach to the other Consortium members.

If you are not selected for funding, you will be notified in writing via postal mail and informed of any review and appeal rights. See 7 CFR part 11 for USDA National Appeals Division procedures. Funding of successfully appealed applications will be limited to available FY 2015 funding. You must comply with all applicable statutes, regulations, and notice requirements before the grant will be approved.

2. Administrative and National Policy Requirements

Additional requirements that apply to grantees selected for this in program can be found in 2 CFR parts 180, 200, 400, 415, 417, 418, 421, 25, and 170; and 48 CFR 31.2, and successor regulations to these parts. In addition, all recipients of Federal financial assistance are required to comply with the Federal Funding Accountability and Transparency Act of 2006 and must report information about sub-awards and executive compensation (see 2 CFR part 170). These recipients must also maintain their registration in the SAM database as long as their grants are active. These regulations may be obtained at http://www.gpoaccess.gov/cfr/index.html.

The following additional requirements apply to grantees selected for this program:

• Agency-approved Grant Agreement.

• Letter of Conditions.

• Form RD 1940-1, “Request for Obligation of Funds.”

• Form RD 1942-46, “Letter of Intent to Meet Conditions.”

• Form AD-1047, “Certification Regarding Debarment, Suspension, and Other Responsibility Matters—Primary Covered Transactions.”

• Form AD-1048, “Certification Regarding Debarment, Suspension, Ineligibility and Voluntary Exclusion—Lower Tier Covered Transactions.”

• Form AD-1049, “Certification Regarding a Drug-Free Workplace Requirement (Grants).”

• Form AD-3031, “Assurance Regarding Felony Conviction or Tax Delinquent Status for Corporate Applicants.”

• Form RD 400-4, “Assurance Agreement.”

• RD Instruction 1940-Q, Exhibit A-1, “Certification for Contracts, Grants and Loans”

• SF-LLL, “Disclosure of Lobbying Activities” if applicable.

3. Reporting

(a) Federal Financial Reports.

(1) An SF-425, “Federal Financial Report,” must be submitted listing expenditures according to agreed upon budget categories, on a semiannual basis. Reporting periods end each August 31 and February 28. Reports are due 30 days after the reporting period ends.

(2) A final project and financial status report within 90 days after the expiration or termination of the grant.

(3) Provide outcome project performance reports and final deliverables.

(b) Performance Reports.

Semiannual performance reports should compare accomplishments to the objectives stated in the proposal. Identify all tasks completed to date and provide documentation supporting the reported results. If the original schedule provided in the work plan is not being met, the report should discuss the problems or delays that may affect completion of the project. Objectives for the next reporting period should be listed. Compliance with any special condition on the use of award funds should be discussed. Reports are due as provided in paragraph 3.a. of this section.

(c) Subrecipient Reporting.

The lead entity must have the necessary processes and systems in place to comply with the reporting requirements for first-tier sub-awards and executive compensation under the Federal Funding Accountability and Transparency Act of 2006 in the event the applicant receives funding unless such applicant is exempt from such reporting requirements pursuant to 2 CFR 170.110(b). The reporting requirements under the Transparency Act pursuant to 2 CFR part 170 are as follows:

(1) First Tier Sub-Awards of $25,000 or more in non-Recovery Act funds (unless they are exempt under 2 CFR part 170) must be reported by the Recipient to http://www.fsrs.gov no later than the end of the month following the month the obligation was made.

(2) The Total Compensation of the Recipient's Executives (five most highly compensated executives) must be reported by the Recipient (if the Recipient meets the criteria under 2 CFR part 170) to http://www.sam.gov by the end of the month following the month in which the award was made.

(3) The Total Compensation of the Subrecipient's Executives (five most highly compensated executives) must be reported by the Subrecipient (if the Subrecipient meets the criteria under 2 CFR part 170) to the Recipient by the end of the month following the month in which the sub-award was made. Further details regarding these requirements can be obtained at http://www.ecfr.gov/cgi-bin/text-idx?tpl=/ecfrbrowse/Title02/2cfr170_main_02.tpl.

(d) Closeout.

Grant closeout activities include a letter to the grantee with final instructions and reminders for amounts to be de-obligated for any unexpended grant funds, final project performance reports due, submission of outstanding deliverables, audit requirements, or other outstanding items of closure.

(e) Report for Public Distribution.

You must provide a report suitable for public distribution that describes the accomplishments made during this project. We may use this report as a success story to promote this program.

G. Federal Awarding Agency Contacts

If you have questions about this Notice, please contact the State Office as identified in the ADDRESSES section of this Notice. You are also encouraged to visit the application Web site for application tools, including an application guide and templates. The Web site address is: http://www.rd.usda.gov/programs-services/delta-health-care-services-grants.

H. Other Information

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's Target Center at (202) 720-2600 (voice and TDD).

If you wish to file a Civil Rights program complaint of discrimination, complete the USDA Program Discrimination Complaint Form (PDF) found online at http://www.ascr.usda.gov/complain_filing_cust.html or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442, or email at program.intake@usda.gov.

Individuals who are deaf, hard of hearing, or have speech disabilities and who wish to file either an EEO or program complaint, please contact USDA through the Federal Relay Service at (800) 877-8339 or (800) 845-6136 (in Spanish).

Persons with disabilities who wish to file a program complaint, please see information above on how to contact us by mail directly or by email. If you require alternative means of communication for program information (e.g., Braille, large print, audiotape, etc.), please contact USDA's TARGET Center at (202) 720-2600 (voice and TDD).

Dated: August 28, 2015.
Samuel H. Rikkers,
Acting Administrator, Rural Business-Cooperative Programs.

[FR Doc. 2015-22546 Filed 9-4-15; 8:45 am]

BILLING CODE 3410-XY-P